DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to review the adequacy of the standards and advisory materials regarding bird ingestion requirements and determine whether they establish a minimum standard of safety. This notice is to inform the public of this ARAC activity.

FOR FURTHER INFORMATION CONTACT: Marc Bouthillier, Federal Aviation Administration, New England Region Headquarters, Engine and Propeller Standards Staff, ANE-110, 12 New England Executive Park, Burlington, MA 01803, (781) 238-7120, facsimile: (781) 238-7199, marc.bouthillier@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

• Review and assess the adequacy of the standards and advisory material for § 33.76 bird ingestion requirements to determine whether they establish an appropriate minimum standard of safety as required by the Federal Aviation Act. The assessment should define the current bird threat, include an evaluation of trends, and consider any reasonable predictable changes to the current threat. ARAC should take into account any changes in the threat resulting from increased population of a particular bird species, actions intended to control populations around airports, and flight-crew training for flocking-bird recognition and avoidance.

• Develop a report on the review and, depending upon the results of the review, recommend regulatory language to § 33.76, corresponding JAR-E540/800, and related advisory material to address any inadequacies identified in the rule or related advisory material. Reconsider whether the basic design of the recent rule is adequate relative to its stated safety objective, reconsider flocking birds greater than 2.5 pounds, and reconsider high-speed aircraft operations at low altitudes relative to the identified bird ingestion threats.

• If appropriate, recommend changes to the recent rules and related advisory material. The recommendation should include ARAC's response to the economic questions attached to this tasking record.

• Identify and provide recommendations to the FAA and JAA for areas of study, other than engine certification requirements, where potential exists to significantly mitigate risks associated with engine bird ingestion.

• If as a result of the recommendations, the FAA publishes an NPRM and/or notice of availability of draft advisory circular for public comment, the FAA may ask ARAC to review selected comments or all comments, as specified at that time by the FAA, and provide the agency with a recommendation for the disposition of those comments.

• Consider defining an industry-level management plan for periodic update and review of the bird ingestion database so as to maintain an awareness of the bird threat in service.

Schedule: Required completion date is August 2002.

ARAC Acceptance of Task

ARAC accepted the task and assigned the task to the Engine Harmonization Working Group, Transport Airplane and Engine Issues. The working group serves as staff to ARAC and assists in the analysis of assigned tasks. ARAC must review and approve the working group's recommendations. If ARAC accepts the working group's recommendations, it will forward them to the FAA.

Working Group Activity

The Engine Harmonization Working Group must comply with the procedures adopted by ARAC. As part of the procedures, the working group must:

1. Recommend a work plan for completion of the task, including the rationale supporting such a plan for consideration at the next meeting of the ARAC on transport airplane and engine issues held following publication of this notice.

2. Give a detailed conceptual presentation of the proposed recommendations prior to proceeding with the work stated in item 3 below.

3. Draft the appropriate documents and required analyses and/or any other related materials or documents.

4. Provide a status report at each meeting of the ARAC held to consider transport airplane and engine issues.

Participation in the Working Group

The Engine Harmonization Working Group will be composed of technical experts having an interest in the assigned task. A working group member need not be a representative or a member of the full committee.

Any individual who has expertise in the subject area and wants to become a member of the working group should write to the person listed under the caption FOR FURTHER INFORMATION CONTACT expressing that desire, describing his or her interest in the task, and stating the expertise he or she would bring to the working group. We must receive all requests by December 7, 2001. The requests will be reviewed by the assistant chair, the assistant executive director, and the working group co-chairs. Individuals will be advised whether or not their request can be accommodated.

Individuals chosen for membership on the working group will be expected to represent their aviation community segment and actively participate on the working group (e.g., attend all meetings, provide written comments when requested to do so, etc.). They also will be expected to devote the resources necessary to support the working group in meeting any assigned deadlines. Members must keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group co-chairs. The Secretary of Transportation determined that the formation and use of the ARAC is necessary and in the public interest in connection with the performance of duties imposed on the FAA by law.

Meetings of the ARAC are open to the public. Meetings of the Engine Harmonization Working Group will not be open to the public, except to the extent those individuals with an interest and expertise are selected to participate. The FAA will make no public announcement of working group meetings.

Issued in Washington, DC, on October 30, 2001.
Anthony F. Fazio,
Executive Director, Aviation Rulemaking Advisory Committee.

[FR Doc. 01-27997 Filed 11-6-01; 8:45 am]

BILLING CODE 4910-13-M